DEPARTMENT OF JUSTICE

Bureau of Prisons

28 CFR Part 522

[BOP-1110-P]

RIN 1120-AB47

Intake Screening

AGENCY: Bureau of Prisons, Justice.

ACTION: Proposed rule.

SUMMARY: In this document, the Bureau of Prisons (Bureau) proposes to streamline intake screening regulations by removing internal agency management procedures that need not be stated in regulation.

DATES: Comments are due by March 22, 2010.

ADDRESSES: Submit comments to the Rules Unit, Office of General Counsel, Bureau of Prisons, 320 First Street, NW., Washington, DC 20534. You may view an electronic version of this rule at http://www.regulations.gov. You may also comment via the Internet to the Bureau at boprules@bop.gov or by using the http://www.regulations.gov comment form for this regulation. When submitting comments electronically you must include the BOP Docket No. in the subject box.

FOR FURTHER INFORMATION CONTACT: Sarah Qureshi, Office of General Counsel, Bureau of Prisons, phone (202) 307-2105.

SUPPLEMENTARY INFORMATION:

Posting of Public Comments

• Please note that all comments received are considered part of the public record and made available for public inspection online at http://www.regulations.gov. Such information includes personal identifying information (such as your name, address, etc.) voluntarily submitted by the commenter.

• If you want to submit personal identifying information (such as your name, address, etc.) as part of your comment, but do not want it to be posted online, you must include the phrase “PERSONAL IDENTIFYING INFORMATION” in the first paragraph of your comment. You must also locate all the personal identifying information you do not want posted online in the first paragraph of your comment and identify what information you want redacted.

• If you want to submit confidential business information as part of your comment but do not want it to be posted online, you must include the phrase “CONFIDENTIAL BUSINESS INFORMATION” in the first paragraph of your comment. You must also prominently identify confidential business information to be redacted within the comment. If a comment has so much confidential business information that it cannot be effectively redacted, all or part of that comment may not be posted on http://www.regulations.gov.

• Personal identifying information identified and located as set forth above will be placed in the agency's public docket file, but not posted online. Confidential business information identified and located as set forth above will not be placed in the public docket file. If you wish to inspect the agency's public docket file in person by appointment, please see the “For Additional Information” paragraph.

In this document, the Bureau of Prisons (Bureau) proposes to streamline intake screening regulations in 28 CFR part 522, subpart C, by removing internal agency management procedures that need not be stated in regulation. Although we are removing these provisions from the CFR, they will remain in Bureau policy statements on intake screening. Bureau policy is a more appropriate vehicle through which to provide instruction and guidance to staff.

The two regulations in 28 CFR subpart C, §§ 522.20 and 522.21, describe the Bureau's intake screening procedures. Section 522.20 is a statement of purpose which we have not substantively altered.

Section 522.21 explains that a newly arrived inmate will be cleared by the Medical Department and interviewed by staff before assignment to the general population. This section has not substantively changed, but is simply reworded. The current regulation states that, except for such camps and other satellite facilities where segregating a newly arrived inmate in detention is not feasible, the Warden will ensure that a newly arrived inmate is cleared by the Medical Department and provided a social interview by staff before assignment to the general population.

The introductory paragraph in § 522.21 states that intake screening interviews need not be done at “camps and other satellite facilities where segregating a newly arrived inmate in detention is not feasible * * *” This language is deleted from the proposed regulation because intake interviews are necessary at all facilities, including camps and satellite facilities. If an issue arises during intake screening of an inmate at a facility without the means to appropriately segregate an inmate, that inmate will be moved to a more appropriate facility. The regulation is therefore being revised to indicate that all inmates must be screened, without differentiation between those arriving at camps, satellite facilities, or other types of facilities.

Other provisions in § 522.21 are being deleted because they are purely staff guidance. The deleted provisions are (1) an instruction to staff to evaluate both the general physical appearance and emotional condition of the inmate during a social interview; and (2) an instruction to staff to place recorded results of the intake medical screening and the social interview in the inmate's central file. Both of these concepts will be retained in the relevant policy document, which is the Director's mandatory instruction to staff. The deleted provisions relate solely to internal agency management and practice, and do not impose obligations or confer any benefits upon our regulated entities (the inmates) or the public.

Executive Order 12866

This rule falls within a category of actions that the Office of Management and Budget (OMB) has determined not to constitute “significant regulatory actions” under section 3(f) of Executive Order 12866 and, accordingly, it was not reviewed by OMB.

Executive Order 13132

This regulation will not have substantial direct effects on the States, on the relationship between the national government and the States, or on distribution of power and responsibilities among the various levels of government. Therefore, under Executive Order 13132, we determine that this rule does not have sufficient federalism implications to warrant the preparation of a Federalism Assessment.

Regulatory Flexibility Act

The Director of the Bureau of Prisons, under the Regulatory Flexibility Act (5 U.S.C. 605(b)), reviewed this regulation and by approving it certifies that it will not have a significant economic impact upon a substantial number of small entities for the following reasons: This rule pertains to the correctional management of offenders committed to the custody of the Attorney General or the Director of the Bureau of Prisons, and its economic impact is limited to the Bureau's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 522

Prisoners.

Dated: January 8, 2010.
Harley G. Lappin,
Director, Bureau of Prisons.

Under rulemaking authority vested in the Attorney General in 5 U.S.C. 552(a) and delegated to the Director, Bureau of Prisons, we amend 28 CFR part 522 as follows.

Subchapter B—Inmate Admission, Classification, and Transfer

PART 522—ADMISSION TO INSTITUTION

1. The authority citation for 28 CFR part 522 continues to read as follows:

Authority: 5 U.S.C. 301; 18 U.S.C. 3621, 3622, 3624, 4001, 4042, 4081, 4082 (Repealed in part as to offenses committed on or after November 1, 1987), 4161-4166 (Repealed in part as to offenses committed on or after November 1, 1987), 5006-5024 (Repealed October 12, 1984, as to offenses committed after that date), 5039; 28 U.S.C. 509, 510.

2. Revise Subpart C to read as follows:

Subpart C—Intake Screening

Sec.
522.20 Purpose and scope.
522.21 Procedures.

§ 522.20 Purpose and scope.

The purpose of this subpart is to explain that Bureau of Prisons staff screen newly arrived inmates to ensure that Bureau health, safety, and security standards are met.

§ 522.21 Procedures.

(a) Upon an inmate's arrival, the inmate will be interviewed to determine if there are non-medical reasons for housing the inmate away from the general population.

(b) Within 24 hours after an inmate's arrival, the inmate will be medically screened to determine if there are medical reasons, including mental health reasons, for housing the inmate away from the general population or for restricting temporary work assignments.

[FR Doc. 2010-878 Filed 1-19-10; 8:45 am]

BILLING CODE 4410-05-P